DEPARTMENT OF HEALTH AND HUMAN SERVICES

Administration for Community Living

Availability of Program Application Instructions for Adult Protective Services Funding

Title: American Rescue Plan Act of 2021: Grants to Enhance Adult Protective Services (FY 2022).

Announcement Type: Initial.

Statutory Authority: The statutory authority for grants under this program announcement is contained in the Elder Justice Act Section 2042(b) of Title XX of the Social Security Act [Pub. L. 74-271] [As Amended Through Pub. L. 115-123, Enacted February 9, 2018] as referenced in Section 9301of the American Rescue Plan Act of 2021 (Pub. L. 117-2).

Catalog of Federal Domestic Assistance (CFDA) Number: 93.747.

Dates: The deadline date for the submission of the American Rescue Plan Act of 2021: Grants to Enhance Adult Protective Services FY 2022 Letter of Assurance is 11:59 p.m. EST June 24, 2022.

I. Funding Opportunity Description

The Administration for Community Living (ACL) is establishing the “American Rescue Plan Act of 2021: Grants to Enhance Adult Protective Services FY 2022” funding opportunity in accordance with Section 2042(b) of Subtitle B of Title XX of the Social Security Act, otherwise known as the Elder Justice Act (EJA) as authorized and funded through the American Rescue Plan Act of 2021 (Pub. L. 117-2). In accordance with these statutes, the purpose of this opportunity is to enhance and improve adult protective services provided by states and local units of government.

Funds awarded under this opportunity will provide Adult Protective Services (APS) programs in the states and territories with resources to enhance, improve, and expand the ability of APS to investigate allegations of abuse, neglect, and exploitation. Examples of activities consistent with the purposes of the statute include:

• Establishing or enhancing the availability for elder shelters and other emergency, short-term housing and accompanying “wrap-around” services for APS clients;

• Establishing, expanding, or enhancing state-wide and local-level elder justice networks for the purpose of removing bureaucratic obstacles and improving coordination across the many state and local agencies interacting with APS clients who have experienced abuse, neglect, or exploitation;

• Working with tribal adult protective services efforts, such as conducting demonstrations on state-Tribal APS partnerships to better serve tribal elders who experience abuse, neglect, and exploitation, partnering with Tribes within the state to include tribal elder abuse data in the state's National Adult Maltreatment Reporting System (NAMRS) reporting, and undertaking demonstrations to better understand elder abuse experienced by tribal individuals living in non-tribal communities and served by state APS programs;

• Improving or enhancing existing APS processes for receiving reports, conducting intakes and investigations, planning/providing for services, making case determinations, documenting and closing cases, and continuous quality improvement;

• Improving and supporting remote work, such as the purchase of communications and technology hardware, software, or infrastructure in order to provide adult protective services;

• Improving data collection and reporting at the case worker, local-, and state-levels in a manner that is consistent with the National Adult Maltreatment Reporting System (NAMRS);

• Costs associated with establishing new, or improving existing processes for responding to alleged scams and frauds;

• Costs associated with community outreach;

• Costs associated with providing goods and services to APS clients;

• Acquiring personal protection equipment and supplies;

• Paying for extended hours/over-time for staff, hiring temporary staff, and associated personnel costs;

• Training costs;

• Costs associated with assisting APS clients secure the least restrictive option for emergency or alternative housing, and with obtaining, providing, or coordinating with care transitions as appropriate.

Awards authorized under the EJA Section 2042(b) shall be provided to the agency or unit of state government having the legal responsibility for providing adult protective services within the state. Funding under this opportunity may be used to serve any APS client who meets their state's statutory or regulatory criteria for client eligibility for APS services in the state. This funding must supplement and not supplant existing funding for APS provided by states and local units of government. Additionally, award recipients will be required to submit semi-annual federal financial reports and annual program reports related to the activities performed.

II. Award Information

A. Eligible Entity

The eligible entity for these awards is the agency or unit of state government legally responsible for providing adult protective services in each state and territory (EJA Section 2042(b)(3)(B)).

B. Funding Instrument Type

These awards will be made in the form of formula grants to the agencies and units of state government with the legal responsibility to provide adult protective services.

C. Anticipated Total Funding per Budget Period

Under this program announcement, ACL intends to make grant awards to each state, territory, and the District of Columbia. Funding will be distributed through the formula identified in Section 2042(b) of the Elder Justice Act. The amounts allocated are based upon the proportion of elders living in each state and territory, as defined in statute, and will be distributed based on the formula. There are no cost-sharing nor match requirements.

Awards made under this announcement have an estimated start date of August 1, 2022 and an estimated end date of September 30, 2024. The total available funding for this opportunity is $163,646,000. Below are the projected award amounts:

State/ territory | Projected amount
Alabama | $2,382,193
Alaska | 1,227,345
Arizona | 3,616,372
Arkansas | 1,443,035
California | 16,437,221
Colorado | 2,439,994
Connecticut | 1,776,855
Delaware | 1,227,345
Dist. of Columbia | 244,720
Florida | 12,087,354
Georgia | 4,377,839
Hawaii | 1,227,345
Idaho | 1,227,345
Illinois | 5,750,992
Indiana | 3,070,139
Iowa | 1,535,026
Kansas | 1,334,740
Kentucky | 2,112,929
Louisiana | 2,109,473
Maine | 1,227,345
Maryland | 2,740,164
Massachusetts | 3,289,234
Michigan | 4,977,667
Minnesota | 2,622,975
Mississippi | 1,369,378
Missouri | 2,979,772
Montana | 1,227,345
Nebraska | 1,227,345
Nevada | 1,409,017
New Hampshire | 1,227,345
New Jersey | 4,168,871
New Mexico | 1,227,345
New York | 9,195,346
North Carolina | 4,937,892
North Dakota | 1,227,345
Ohio | 5,750,910
Oklahoma | 1,780,936
Oregon | 2,107,701
Pennsylvania | 6,646,693
Rhode Island | 1,227,345
South Carolina | 2,627,163
South Dakota | 1,227,345
Tennessee | 3,221,883
Texas | 10,846,822
Utah | 1,227,345
Vermont | 1,227,345
Virginia | 3,850,700
Washington | 3,421,084
West Virginia | 1,227,345
Wisconsin | 2,888,644
Wyoming | 1,227,345
American Samoa | 163,646
Guam | 163,646
Commonwealth of the Northern Mariana Islands | 163,646
Puerto Rico | 1,802,162
Virgin Islands | 163,646

III. Submission Requirements

A. Letter of Assurance

A Letter of Assurance is required to be submitted by the eligible entity in order to receive an award. The Letter of Assurance must include the following:

1. Assurance that the award recipient is the agency or unit of state government legally responsible for providing adult protective services in each state and territory.

2. Assurance that funds will supplement and not supplant existing APS funding.

3. Select one of the following:

a. Assurance that the award recipient's previously submitted and approved 3-5 year operational plan for improving and enhancing their APS system at the state and local level remains accurate, and that they intend to follow that plan in expending their FY 2022 grant funds; OR

b. Assurance that the award recipient has included an initial spend plan for the FY 2022 funds and will provide an updated 3-5 operational plan within 90 days of award.

4. Assurance that funds will be spent in ways consistent with the Elder Justice Act Section 2042(b); Section 9301 of the American Rescue Plan Act of 2021; and guidance provided by ACL, including the examples of activities consistent with the purposes of the authorizing legislation contained in the Federal Register Notice:

• Establishing or enhancing the availability for elder shelters and other emergency, short-term housing and accompanying “wrap-around” services;

• Establishing, expanding, or enhancing state-wide and local-level elder justice networks;

• Working with tribal adult protective services efforts;

• Improving or enhancing existing APS processes;

• Improving and supporting remote work;

• Improving data collection and reporting at the case worker, local-, and state-levels in a manner that is consistent with the National Adult Maltreatment Reporting System;

• Establishing new, or improving existing processes for responding to alleged scams and frauds;

• Community outreach;

• Providing goods and services to APS clients;

• Acquiring personal protection equipment and supplies;

• Paying for extended hours/over-time for staff, hiring temporary staff, and associated personnel costs;

• Training;

• Assisting APS clients secure the least restrictive option for emergency or alternative housing, and with obtaining, providing, or coordinating with care transitions as appropriate.

5. Assurance to provide semi-annual federal financial reports and annual program reports related to the activities performed.

B. Initial Spend Plan

An Initial Spend Plan is required only if the previously submitted and approved 3-5 year operational plan needs to be updated. The Initial Spend Plan should outline how the state/territory intends to spend their FY 2022 allotment in response to the needs and challenges to their APS program. The plan should be consistent with the purpose of the authorizing legislation and the description and examples outlined above. The Initial Spend Plan submitted in response to this opportunity is considered a preliminary framework for how the state/territory will plan to spend these funds. The Initial Spend Plan should have the following format: 3-5 pages in length, double-spaced, with 12pt font and 1″ margins, with a layout of 8.5″ x 11″ paper.

C. Unique Entity ID Number

All grant applicants must obtain and keep current a Unique Entity ID (UEI). On April 4, 2022, the unique entity identifier used across the federal government changed from the DUNS Number to the Unique Entity ID (generated by SAM.gov). The Unique Entity ID is a 12-character alphanumeric ID assigned to an entity by SAM.gov. The UEI is viewable in your SAM.gov entity registration record.

D. Intergovernmental Review

Executive Order 12372, Intergovernmental Review of Federal Programs, is not applicable to these grant applications.

IV. Submission Information

A. Submission Process

To receive funding, eligible entities must provide a Letter of Assurance and an Initial Spend Plan (if applicable) containing all the information outlined in Section III A. & B. above.

Materials should be addressed to: Alison Barkoff, Acting Administrator and Assistant Secretary for Aging, Administration for Community Living, 330 C Street SW, Washington, DC 20201.

Letters of Assurance and the Initial Spend Plan should be submitted electronically via email to aps@acl.hhs.gov.

B. Submission Dates and Times

To receive consideration, Letters of Assurance and the Initial Spend Plan must be submitted by 11:59 p.m. Eastern Time on EST June 24, 2022, Letters of Assurance and the Initial Spend Plan should be submitted electronically via email to aps@acl.hhs.gov and have an electronic time stamp indicating the date/time submitted.

VII. Agency Contacts

A. Programmatic Issues/Questions

Direct programmatic inquiries to: Elizabeth Petruy, Email: elizabeth.petruy@acl.hhs.gov, Phone: 202.260.0868.

B. Submission Issues/Questions

Direct inquiries regarding submission of applications to aps@acl.hhs.gov. ACL will provide a response within 2 business days.

Dated: May 19, 2022.
Alison Barkoff,
Acting Administrator and Assistant Secretary for Aging.

[FR Doc. 2022-11175 Filed 5-24-22; 8:45 am]

BILLING CODE 4154-01-P